COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete products and services from the Procurement List that were previously furnished by nonprofit agencies employing persons who are blind or have other severe disabilities.

DATES: Comments must be received on or before September 4, 2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products and services are proposed for deletion from the Procurement List:

Products

NSN(s)—Product Name(s)

8415-00-NSH-0376—Coat, Combat, BDU, Army, Urban Camouflage, XS-XS

8415-00-NSH-0377—Coat, Combat, BDU, Army, Urban Camouflage, XS-S

8415-00-NSH-0378—Coat, Combat, BDU, Army, Urban Camouflage, XS-R

8415-00-NSH-0379—Coat, Combat, BDU, Army, Urban Camouflage, SX-XS

8415-00-NSH-0380—Coat, Combat, BDU, Army, Urban Camouflage, S-XS

8415-00-NSH-0381—Coat, Combat, BDU, Army, Urban Camouflage, SS

8415-00-NSH-0382—Coat, Combat, BDU, Army, Urban Camouflage, SR

8415-00-NSH-0383—Coat, Combat, BDU, Army, Urban Camouflage, SL

8415-00-NSH-0384—Coat, Combat, BDU, Army, Urban Camouflage, SXL

8415-00-NSH-0385—Coat, Combat, BDU, Army, Urban Camouflage, M-XXS

8415-00-NSH-0386—Coat, Combat, BDU, Army, Urban Camouflage, M-XS

8415-00-NSH-0387—Coat, Combat, BDU, Army, Urban Camouflage, M-S

8415-00-NSH-0388—Coat, Combat, BDU, Army, Urban Camouflage, M-R

8415-00-NSH-0389—Coat, Combat, BDU, Army, Urban Camouflage, M-L

8415-00-NSH-0390—Coat, Combat, BDU, Army, Urban Camouflage, M-XL

8415-00-NSH-0391—Coat, Combat, BDU, Army, Urban Camouflage, L-XS

8415-00-NSH-0392—Coat, Combat, BDU, Army, Urban Camouflage, L-S

8415-00-NSH-0393—Coat, Combat, BDU, Army, Urban Camouflage, L-R

8415-00-NSH-0394—Coat, Combat, BDU, Army, Urban Camouflage, L-L

8415-00-NSH-0395—Coat, Combat, BDU, Army, Urban Camouflage, L-XL

8415-00-NSH-0396—Coat, Combat, BDU, Army, Urban Camouflage, XL-R

8415-00-NSH-0397—Coat, Combat, BDU, Army, Urban Camouflage, XL-LL

Contracting Activity: Army Contracting Command—Aberdeen Proving Ground, Natick Contracting Division

Services

Service Type: Mess Attendant Service

Mandatory for: 185th Air Refueling Wing Dining Hall, Building 263, 2920 Headquarters Avenue, Sioux City, IA

Service Type: Custodial Service

Mandatory for: 185th Air Refueling Wing, Buildings 234 and 241, 2920 Headquarters Avenue, Sioux City, IA

Mandatory Source(s) of Supply: Goodwill Community Rehabilitation Services, Inc., Sioux City, IA

Contracting Activity: Dept of the Army, W7M8 USPFO ACTIVITY IA ARNG

Barry S. Lineback,
Director, Business Operations.

[FR Doc. 2016-18647 Filed 8-4-16; 8:45 am]

BILLING CODE 6353-01-P